DEPARTMENT OF HEALTH AND HUMAN SERVICES

National Institutes of Health

Submission for OMB Review; 30-Day Comment Request; National Institutes of Health Workplace Civility and Equity Survey (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To obtain a copy of the data collection plans and instruments, submit comments in writing, or request more information on the proposed project, contact: Sara Mills, Program Manager, Workforce Planning and Analytics Section, 45 Center Drive, Suite 1AF08, Rockville, Maryland, 20892 or call non-toll-free number (301) 496-6744 or Email your request, including your address to: NIHWorkplaceCES@mail.nih.gov. Formal requests for additional plans and instruments must be requested in writing.

SUPPLEMENTARY INFORMATION: This proposed information collection was previously published in the Federal Register on April 27, 2022, page 25030 (87 FR 25030) and allowed 60 days for public comment. Public comment was received. The purpose of this notice is to allow an additional 30 days for public comment. The Office of the Director (OD), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: NIH Workplace Civility and Equity Survey, 0925-New—expiration date XX/XX/XXXX, Office of the Director (OD), National Institutes of Health (NIH).

Need and Use of Information Collection: The purpose of this survey is to assess the workplace climate and evaluate the prevalence of harassment and discrimination at the National Institutes of Health (NIH). Specifically, the results of this survey will facilitate a data driven analysis of the types of harassment and/or discrimination that may be occurring or is perceived to be occurring, by its workers. To this end, where applicable, NIH will leverage these findings to identify areas within NIH that require further investigation, thereby providing opportunities for targeted prevention or mitigation strategies.

OMB approval is requested for 3 years. There are no costs to respondents other than their time. The total estimated annualized burden hours are 7,879.

Estimated Annualized Burden Hours
Type of respondent | Number of respondents | Number of responses per respondent | Average time per response (in hours) | Total annual burden hour
NIH Staff | 31,517 | 1 | 15/60 | 7,879
Total |  | 31,517 |  | 7,879

Dated: July 13, 2022.
Tara A. Schwetz,
Acting Principal Deputy Director, National Institutes of Health.

[FR Doc. 2022-15608 Filed 7-20-22; 8:45 am]

BILLING CODE 4140-01-P